DEPARTMENT OF AGRICULTURE

Food and Nutrition Service

Agency Information Collection Activities; Comment Request: USDA National Hunger Clearinghouse Database Form (FNS 543)

AGENCY: Food and Nutrition Service (FNS), USDA.

ACTION: Notice.

SUMMARY: In accordance with the Paperwork Reduction Act of 1995, this notice invites the general public and other public agencies to comment on this proposed information collection. This is an extension of a currently approved information collection from organizations fighting hunger and poverty.

DATES: Written comments must be received on or before January 24, 2022.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Celeste Perkins, Food and Nutrition Service, U.S. Department of Agriculture, 1320 Braddock Place, Front Desk, Alexandria, VA 22314. Comments may be submitted to Celeste Perkins via email to Celeste.Perkins@usda.gov. Comments will also be accepted through the Federal eRulemaking Portal. Go to http://www.regulations.gov, and follow the online instructions for submitting comments electronically. Comments will also be accepted through the Federal eRulemaking Portal.

All written comments will be open for public inspection at the office of the Food and Nutrition Service during regular business hours (8:30 a.m. to 5:00 p.m. Monday through Friday) at 1320 Braddock Place, Front Desk, Alexandria, Virginia 22314.

All responses to this notice will be summarized and included in the request for Office of Management and Budget approval. All comments will be a matter of public record.

FOR FURTHER INFORMATION CONTACT: Requests for additional information or copies of this information collection should be directed to Celeste Perkins at 703-305-2012.

SUPPLEMENTARY INFORMATION:

Title: USDA National Hunger Clearinghouse Database Form.

Form Number: FNS-543.

OMB Number: 0584-0474.

Expiration Date: 02/28/2022.

Type of Request: Extension of Collection.

Abstract: Section 26(d) of the Richard B. Russell National School Lunch Act (42 U.S.C. 1769g(d)) (the Act), which was added to the Act by section 123 of Public Law 103-448 on November 2, 1994, mandated that FNS enter into a contract with a non-governmental organization to establish and maintain an information clearinghouse (named “USDA National Hunger Clearinghouse” or “Clearinghouse”) for groups that assist low-income individuals or communities regarding nutrition assistance programs or other assistance. Section 26(d) of this Act was amended again by Public Law 113-79 on May 20, 2021 to extend funding for the Clearinghouse through fiscal year 2022 for $250,000. FNS awarded this contract to the hunger advocacy organization Hunger Free America on May 1, 2019.

The Clearinghouse includes a database of non-governmental, grassroots organizations in the areas of hunger and nutrition, along with a mailing list to communicate with these organizations. These organizations enter their information into the database, and Clearinghouse staff use that information to provide the public with information about where they can get food assistance. Surveys (FNS-543) will be completed online at www.hungerfreeamerica.org. Information from past collections will be used as an estimate for future data collection for fiscal year 2021. From this information collection, the following information was determined:

Affected Public: Respondent groups identified include (1) Food banks—Not for Profit, (2) Business or Other For-Profits, and (3) Other Not For Profit. Most of these groups are organizations providing nutrition assistance services to the public.

Estimated Number of Respondents: 600.

Estimated Number of Responses per Respondent: Each respondent is expected to only participate in one survey.

Estimated Total Annual Responses: 600.

Estimated Time per Response: 5 minutes (0.0833 hours).

Estimated Total Annual Burden on Respondents: 3,000 minutes (50 hours).

See the table below for estimated total annual burden for each type of respondent.

Respondent | Estimated number respondent | Responses annually per respondent | Total annual responses (col. bxc) | Estimated avg. number of hours per response | Estimated total hours (col. bxc)
Reporting Burden
Food Banks (Not for Profit) | 300 | 1 | 300 | 0.0833 | 24.99
Business and Other For Profit | 100 | 1 | 100 | 0.0833 | 8.33
Other Not For Profit | 200 | 1 | 200 | 0.0833 | 16.66
Total Reporting Burden | 600 |  | 600 |  | 49.98

Cynthia Long,
Administrator, Food and Nutrition Service.

[FR Doc. 2021-25558 Filed 11-22-21; 8:45 am]

BILLING CODE 3410-30-P